DEPARTMENT OF HEALTH AND HUMAN SERVICES

Administration on Aging

Agency Information Collection Activities; Proposed Collection; Comment Request; AoA Nutrition and Physical Activity Campaign

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to organizations that wish to enroll as a partner with AoA in a campaign to create awareness and make nutrition and physical activity programs available to older Americans. The requested information includes providing general information about the entity, its programs, and counts of populations served.

DATES: Submit written or electronic comments on the collection of information by March 9, 2004.

ADDRESSES: Submit electronic comments on the collection of information to: Kathleen.Loughrey@aoa.gov.

Submit written comments on the collection of information to Administration on Aging, Washington, DC 20201.

FOR FURTHER INFORMATION CONTACT: Kathleen Loughrey, U.S. Department of Health and Human Services, Administration on Aging, Washington, DC 20201.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

Describe Collection of Information

AoA estimates the burden of this collection of information as follows: AoA estimates a total of no more than 500 hours will be required to collect this information. This estimate is based on these assumptions: AoA estimates that 2,000 organizations will complete an entry form to become a campaign partner. Completion of each entry form will require a total of 15 minutes per organization including five minutes to answer questions, five minutes to insert a program description, and five minutes to look up data from existing program records.

Dated: January 2, 2004.
Josefina G. Carbonell,
Assistant Secretary for Aging.

[FR Doc. 04-471 Filed 1-8-04; 8:45 am]

BILLING CODE 4154-01-P